DEPARTMENT OF THE INTERIOR

National Park Service

Notice of Intent to Repatriate Cultural Items: U.S. Department of Agriculture, Forest Service Kootenai National Forest, Libby, MT

AGENCY: National Park Service, Interior.

ACTION: Notice.

Notice is here given in accordance with the Native American Graves Protection and Repatriation Act (NAGPRA), 25 U.S.C. 3005, of the intent to repatriate cultural items in the possession of the U.S. Department of Agriculture, Forest Service, Kootenai National Forest, Libby, MT, that meet the definition of “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In the mid-1970s, objects of cultural patrimony were removed from a documented traditional cultural property located in Lincoln County, MT. The removal was an illegal action by a private citizen. In 1979, the private citizen turned the collection over to the University of Montana, Missoula, MT. In 1995, in consultation with the Confederated Salish & Kootenai Tribes of the Flathead Reservation, Montana, the Kootenai National Forest secured the collection through the relinquishment of ownership by the University of Montana. The 560 cultural items consist of various modified artifacts, such as scrapers, bone beads, shells, tools, and animal teeth.

The site area is within the aboriginal and traditional territory of the Kootenai Tribe, as demonstrated by oral histories of the Kootenai Elders, Hellgate Treaty of 1855, several ethnographies, ethno histories, historic newspapers, and the United States Court of Claims. During consultation, the Kootenai Tribe explained how the materials are associated with the Kootenai Tribe's culture, and are central to the tribe and its traditions. The cultural items are also communal property, as they were considered inalienable at the time of their removal, and cannot be alienated, appropriated, or conveyed by any individual. Based on consultation evidence presented by the Kootenai Tribe, the Forest Service has determined the cultural items meet the definition of objects of cultural patrimony under NAGPRA. Based on consultation, ethnographic evidence, and historic documents, the Forest Service has determined that the cultural items are culturally affiliated with the Kootenai Tribe. Descendants of the Kootenai Tribe are members of the Confederated Salish & Kootenai Tribes of the Flathead Indian Reservation, Montana.

Officials of the Forest Service have determined that, pursuant to 25 U.S.C. 3001 (3)(D), the 560 cultural items described above have ongoing historical, traditional, or cultural importance central to the Native American group or culture itself, rather than property owned by an individual. Officials of the Forest Service also have determined that, pursuant to 25 U.S.C. 3001 (2), there is a relationship of shared group identity that can be reasonably traced between the objects of cultural patrimony and the Confederated Salish & Kootenai Tribes of the Flathead Indian Reservation, Montana.

Representatives of any other Indian tribe that believes itself to be culturally affiliated with the objects of cultural patrimony should contact Paul Bradford, Forest Supervisor, United States Department of Agriculture, Forest Service, Kootenai National Forest, 1101 Highway 2 West, Libby, MT 59923, telephone (406) 293-6211, before November 10, 2008. Repatriation of the objects of cultural patrimony to the Confederated Salish & Kootenai Tribes of the Flathead Indian Reservation, Montana may proceed after that date if no additional claimants come forward.

The Kootenai National Forest is responsible for notifying the Confederated Salish & Kootenai Tribes of the Flathead Indian Reservation, Montana that this notice has been published.

Dated: September 16, 2008
Sherry Hutt,
Manager, National NAGPRA Program.

[FR Doc. E8-23962 Filed 10-8-08; 8:45 am]

BILLING CODE 4312-50-S